DEPARTMENT OF LABOR

Occupational Safety and Health Administration

Maritime Advisory Committee for Occupational Safety and Health (MACOSH); Request for Nominations

AGENCY: Occupational Safety and Health Administration, (OSHA), Labor.

ACTION: Request for nominations for persons to serve on MACOSH.

SUMMARY: OSHA intends to renew the charter of the Maritime Advisory Committee for Occupational Safety and Health (MACOSH). MACOSH advises the Secretary of Labor on matters relating to occupational safety and health programs, policies, and standards for the maritime industries of the United States. The Committee will consist of 15 members and will include a cross-section of individuals who represent the following interests: employers, employees; Federal and State safety and health organizations; professional organizations specializing in occupational safety and health; and national standards setting groups. OSHA invites persons interested in serving on MACOSH to submit their names in nomination for committee membership.

DATE: Nominations for MACOSH membership should be postmarked by March 6, 2000.

ADDRESSES: Nominations for MACOSH membership should be sent to: Chappell Pierce, Office of Maritime Standards, Room N-3609, Occupational Safety and Health Administration, U.S. Department of Labor, 200 Constitution Avenue, NW, Washington, DC 20210.

FOR FURTHER INFORMATION CONTACT: Chappell Pierce, Acting Director, Office of Maritime Standards, U.S. Department of Labor, Occupational Safety and Health Administration, Room N-3609, 200 Constitution Avenue, NW, Washington, DC 20210; Telephone: (202) 693-2255.

SUPPLEMENTARY INFORMATION:

I. Background

On October 18, 1999, OSHA announced its intention to request that MACOSH be rechartered for another two years. MACOSH was established to advise the Secretary on various issues pertaining to providing safe and healthful employment in the maritime industries, which include shipyard and longshoring activities. The Secretary consults with MACOSH on rulemaking issues affecting the industry, and has sought the committee's advice on other issues including streamlining regulatory efforts and improving training and outreach programs. In addition, MACOSH recommends enforcement initiatives that will help improve the working conditions and the safety and health of men and women working in the maritime industry.

II. Nominations

OSHA is seeking men and women with an interest in the safety and health of workers in the maritime industry for membership on MACOSH. Interested persons may submit their own name or the name of another whom they believe to be interested in and qualified to serve on MACOSH. The Agency is looking for nominees to represent the following interests or categories: Employees, Employers, State or Federal Safety and Health Organizations, and Professional Organizations or National Standards-Setting Groups.

OSHA seeks a broad-based and diverse membership for MACOSH. Nominations of women and minorities are encouraged. Nominations of new members or re-nominations of former or current members will be accepted in all categories of membership. Interested persons may nominate themselves or may be nominated by organizations from one of the categories listed above. Nominations should include the name and address of the candidate. Each nomination should include a summary of the candidate's training or experience relating to safety and health in the maritime industry and the interest the candidate represents. In addition to listing the candidate's qualifications to serve on the committee, each nomination should state that the person consents to the nomination and acknowledges the responsibilities of serving on MACOSH.

III. Authority

This document was prepared under the direction of Charles N. Jeffress, Assistant Secretary of Labor for Occupational Safety and Health, U.S. Department of Labor, Washington, DC 20210, pursuant to sections 6(b) and 7(b) of the Occupational Safety and Health Act of 1970 (29 U.S.C. 655, 656), the Federal Advisory Committee Act (5 U.S.C. App. 2), and 29 CFR Part 1912.

Signed at Washington, DC this 18th day of January 2000.
Charles N. Jeffress,
Assistant Secretary of Labor.

[FR Doc. 00-1643 Filed 1-21-00; 8:45 am]

BILLING CODE 4510-26-M